DEPARTMENT OF HEALTH AND HUMAN SERVICES

Centers for Disease Control and Prevention

[30Day-14-0666]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National Healthcare Safety Network (NHSN) (OMB No. 0920-0666), exp. 12/31/2015—Revision—National Center for Emerging and Zoonotic Infectious Diseases (NCEZID), Centers for Disease Control and Prevention (CDC).

Background and Brief Description

The National Healthcare Safety Network (NHSN) is a system designed to accumulate, exchange, and integrate relevant information and resources among private and public stakeholders to support local and national efforts to protect patients and promote healthcare safety. Specifically, the data is used to determine the magnitude of various healthcare-associated adverse events and trends in the rates of these events among patients and healthcare workers with similar risks. The data will be used to detect changes in the epidemiology of adverse events resulting from new and current medical therapies and changing risks. The NHSN currently consists of five components: Patient Safety, Healthcare Personnel Safety, Biovigilance, Long-Term Care Facility (LTCF), and Dialysis. Two new components will be added within the next one to two years: Outpatient Procedure and Antimicrobial Use & Resistance.

The Antimicrobial Use and Resistance (AUR) component will be launched within NHSN that will specifically examine antimicrobial use (AU) and antimicrobial resistance (AR) within healthcare facilities. The goal of the AUR component is to provide a mechanism for facilities to report and analyze antimicrobial use and/or resistance as part of local or regional efforts to reduce antimicrobial resistant infections through antimicrobial stewardship efforts or interruption of transmission of resistant pathogens at their facility. This revision submission includes one new form specific to the NHSN AUR component.

Significant additions were made to three NHSN facility surveys. Questions about infection control practices were added to gain a better understanding of current practices and identify areas to target prevention efforts among facilities that have reported a multidrug-resistant organism. Questions about antibiotic stewardship were added to gain a better understanding of current efforts to improve antibiotic use in hospitals and to assess the quality of hospital antibiotic stewardship programs.

Additionally, minor revisions have been made to 31 other forms within the package to clarify and/or update surveillance definitions. Three forms are being removed as patient vaccination monitoring will be removed from NHSN.

The previously approved NSHN package included 56 individual collection forms; the current revision request adds one new form and removes three forms for a total of 54 forms. The reporting burden will increase by 172,943 hours, for a total of 4,277,716 hours.

Estimated Annualized Burden Hours
Type of respondents | Form name | Number of respondents | Number of responses per respondent | Average burden per response (in hrs.)
Registered Nurse (Infection Preventionist) | NHSN Registration Form | 2,000 | 1 | 5/60
Registered Nurse (Infection Preventionist) | Facility Contact Information | 2,000 | 1 | 10/60
Registered Nurse (Infection Preventionist) | Patient Safety Component—Annual Hospital Survey | 6,000 | 1 | 50/60
Registered Nurse (Infection Preventionist) | Group Contact Information | 1,000 | 1 | 5/60
Registered Nurse (Infection Preventionist) | Patient Safety Monthly Reporting Plan | 6,000 | 12 | 15/60
Registered Nurse (Infection Preventionist) | Primary Bloodstream Infection (BSI) | 6,000 | 44 | 30/60
Registered Nurse (Infection Preventionist) | Pneumonia (PNEU) | 6,000 | 72 | 30/60
Registered Nurse (Infection Preventionist) | Ventilator-Associated Event | 6,000 | 144 | 25/60
Registered Nurse (Infection Preventionist) | Urinary Tract Infection (UTI) | 6,000 | 40 | 30/60
Staff RN | Denominators for Neonatal Intensive Care Unit (NICU) | 6,000 | 9 | 3
Staff RN | Denominators for Specialty Care Area (SCA)/Oncology (ONC) | 6,000 | 9 | 5
Staff RN | Denominators for Intensive Care Unit (ICU)/Other locations (not NICU or SCA) | 6,000 | 54 | 5
Registered Nurse (Infection Preventionist) | Surgical Site Infection (SSI) | 6,000 | 36 | 35/60
Staff RN | Denominator for Procedure | 6,000 | 540 | 5/60
Laboratory Technician | Antimicrobial Use and Resistance (AUR)-Microbiology Data Electronic Upload Specification Tables | 6,000 | 12 | 5/60
Pharmacy Technician | Antimicrobial Use and Resistance (AUR)-Pharmacy Data Electronic Upload Specification Tables | 6,000 | 12 | 5/60
Registered Nurse (Infection Preventionist) | Central Line Insertion Practices Adherence Monitoring | 1,000 | 100 | 5/60
Registered Nurse (Infection Preventionist) | MDRO or CDI Infection Form | 6,000 | 72 | 30/60
Registered Nurse (Infection Preventionist) | MDRO and CDI Prevention Process and Outcome Measures Monthly Monitoring | 6,000 | 24 | 15/60
Registered Nurse (Infection Preventionist) | Laboratory-identified MDRO or CDI Event | 6,000 | 240 | 15/60
Registered Nurse (Infection Preventionist) | Long-Term Care Facility Component—Annual Facility Survey | 250 | 1 | 1
Registered Nurse (Infection Preventionist) | Laboratory-identified MDRO or CDI Event for LTCF | 250 | 8 | 15/60
Registered Nurse (Infection Preventionist) | MDRO and CDI Prevention Process Measures Monthly Monitoring for LTCF | 250 | 12 | 5/60
Registered Nurse (Infection Preventionist) | Urinary Tract Infection (UTI) for LTCF | 250 | 9 | 30/60
Registered Nurse (Infection Preventionist) | Monthly Reporting Plan for LTCF | 250 | 12 | 5/60
Registered Nurse (Infection Preventionist) | Denominators for LTCF Locations | 250 | 12 | 3.25
Registered Nurse (Infection Preventionist) | Prevention Process Measures Monthly Monitoring for LTCF | 250 | 12 | 5/60
Registered Nurse (Infection Preventionist) | LTAC Annual Survey | 400 | 1 | 50/60
Registered Nurse (Infection Preventionist) | Rehab Annual Survey | 1,000 | 1 | 50/60
Registered Nurse (Infection Preventionist) | Antimicrobial Use & Resistance Component—Monthly Reporting Plan | 100 | 12 | 5/60
Occupational Health RN/Specialist | Healthcare Personnel Safety Component Annual Facility Survey | 50 | 1 | 8
Occupational Health RN/Specialist | Healthcare Personnel Safety Monthly Reporting Plan | 11,000 | 1 | 5/60
Occupational Health RN/Specialist | Healthcare Worker Demographic Data | 50 | 200 | 20/60
Occupational Health RN/Specialist | Exposure to Blood/Body Fluids | 50 | 50 | 1
Occupational Health RN/Specialist | Healthcare Worker Prophylaxis/Treatment | 50 | 30 | 15/60
Laboratory Technician | Follow-Up Laboratory Testing | 50 | 50 | 15/60
Occupational Health RN/Specialist | Healthcare Worker Prophylaxis/Treatment-Influenza | 50 | 50 | 10/60
Medical/Clinical Laboratory Technologist | Hemovigilance Module Annual Survey | 500 | 1 | 2
Medical/Clinical Laboratory Technologist | Hemovigilance Module Monthly Reporting Plan | 500 | 12 | 1/60
Medical/Clinical Laboratory Technologist | Hemovigilance Module Monthly Reporting Denominators | 500 | 12 | 1
Medical/Clinical Laboratory Technologist | Hemovigilance Adverse Reaction | 500 | 48 | 15/60
Medical/Clinical Laboratory Technologist | Hemovigilance Incident | 500 | 10 | 10/60
Staff RN | Outpatient Procedure Component—Annual Facility Survey | 5,000 | 1 | 5/60
Staff RN | Outpatient Procedure Component—Monthly Reporting Plan | 5,000 | 12 | 15/60
Staff RN | Outpatient Procedure Component Event | 5,000 | 25 | 40/60
Staff RN | Outpatient Procedure Component—Monthly Denominators and Summary | 5,000 | 12 | 40/60
Registered Nurse (Infection Preventionist) | Outpatient Dialysis Center Practices Survey | 6,500 | 1 | 1.75
Staff RN | Dialysis Monthly Reporting Plan | 6,500 | 12 | 5/60
Staff RN | Dialysis Event | 6,500 | 60 | 20/60
Staff RN | Denominators for Dialysis Event Surveillance | 6,500 | 12 | 6/60
Staff RN | Prevention Process Measures Monthly Monitoring for Dialysis | 1,500 | 12 | 30/60
Staff RN | Dialysis Patient Influenza Vaccination | 325 | 75 | 10/60
Staff RN | Dialysis Patient Influenza Vaccination Denominator | 325 | 5 | 10/60
Epidemiologist | State Health Department Validation Record | 152 | 50 | 15/60

Leroy A. Richardson,
Chief, Information Collection Review Office, Office of Scientific Integrity, Office of the Associate Director for Science, Office of the Director, Centers for Disease Control and Prevention.

[FR Doc. 2014-21257 Filed 9-5-14; 8:45 am]

BILLING CODE 4163-18-P